DEPARTMENT OF COMMERCE

Foreign-Trade Zones Board

[Docket 40-2003]

Foreign-Trade Zone No. 181, Application for Expansion, Amendment of Application

Notice is hereby given that the application of the Northeast Ohio Trade & Economic Consortium (NEOTEC), grantee of FTZ 181, for authority to expand and reorganize FTZ 181 in the Akron/Canton, Ohio area (Doc. 40-2003, 68 FR 51549, 8/27/03), has been amended to leave the 7 acres in the southern portion of the Akron-Canton Regional Airport. The application otherwise remains unchanged.

Comments on the change may be submitted to the Foreign-Trade-Zones Board, U.S. Department of Commerce, FCB—Suite 4100W, 1401 Constitution Ave., NW., Washington, DC 20230, by December 10, 2003.

Dated: November 18, 2003.
Dennis Puccinelli,
Executive Secretary.

[FR Doc. 03-29434 Filed 11-24-03; 8:45 am]

BILLING CODE 3510-DS-P